DEPARTMENT OF AGRICULTURE

Animal and Plant Health Inspection Service

9 CFR Parts 71, 77, 78, 79, and 80

[Docket No. 04-052-2]

RIN 0579-AC48

Livestock Identification; Use of Alternative Numbering Systems

AGENCY: Animal and Plant Health Inspection Service, USDA.

ACTION: Final rule.

SUMMARY: We are adopting as a final rule, with several changes, an interim rule that, among other things, amended the regulations to allow for the use of additional numbering systems for purposes of animal and premises identification. As amended by this document, the rule recognizes additional numbering systems for the identification of animals in interstate commerce and State/Tribe/Federal/industry cooperative disease control and eradication programs. Additionally, the rule amends the regulations to authorize the use of a numbering system to identify premises where animals are managed or held. These regulatory changes are necessary to allow the use, for official purposes, of the new numbering systems in the National Animal Identification System. Use of the new numbering systems is not required by this final rule.

EFFECTIVE DATE: July 18, 2007.

FOR FURTHER INFORMATION CONTACT: Mr. Neil Hammerschmidt, NAIS Coordinator, Surveillance and Identification Programs, National Center for Animal Health Programs, VS, APHIS, 4700 River Road Unit 200, Riverdale, MD 20737-1231; (301) 734-5571.

SUPPLEMENTARY INFORMATION:

Background

In an interim rule effective and published in the Federal Register on November 8, 2004 (69 FR 64644-64651, Docket No. 04-052-1), we amended the regulations to recognize additional numbering systems for the identification of animals in interstate commerce and State/Federal/industry cooperative disease control and eradication programs. Additionally, the interim rule amended the regulations to authorize the use of a numbering system to identify premises where animals are managed or held. Specifically, the interim rule recognized the animal identification number (AIN) for the identification of individual animals, the group/lot identification number (GIN) for the identification of groups or lots of animals, and the premises identification number (PIN) for the identification of premises. These new numbering systems are key elements in the National Animal Identification System (NAIS). The changes we made to the regulations in the interim rule were necessary to allow the use of these new numbering systems for official purposes in disease control and eradication programs. The interim rule did not require use of the new numbering systems, however. Finally, the interim rule amended the regulations to prohibit the removal of official identification devices and to eliminate potential regulatory obstacles to the recognition of emerging technologies that could offer viable alternatives to existing animal identification devices and methods.

Comments on the interim rule were required to be received on or before January 7, 2005. We received 16 comments by that date. They were from beef, cattle, sheep, goat, and poultry producers; producers associations; and State governments. The comments are discussed below.

There were several comments pertaining to our definition of the AIN. Issues discussed included the need for a nationally unique AIN, the recognition of different types of AINs, a possible alternative to the AIN, and the need for having a sunset date for other types of identification numbers so that the AIN will be in effect nationally.

One commenter stated that the definition of the AIN contained in our November 2004 interim rule does not require that the number be “nationally unique” or indicate that there is a need to avoid duplication with existing numbers. It would be useful, according to this commenter, to include this requirement in the definition of AIN so that the rule is clear and specific throughout.

We agree with this comment and are changing the definition accordingly. Since the NAIS is a national system, it is important that each AIN be nationally unique and that duplication be avoided. This final rule amends the definition of animal identification number (AIN) to read as follows: “A numbering system for the official identification of individual animals in the United States providing a nationally unique identification number for each animal. The AIN contains 15 digits, with the first 3 being the country code (840 for the United States), the alpha characters USA, or the numeric code assigned to the manufacturer of the identification device by the International Committee on Animal Recording.”

The same commenter, noting that the interim rule recognized three types of AINs (those beginning with an “840” country code, with the alpha characters “USA”, and with a numeric code assigned to the manufacturer of the device), stated that it was appropriate to identify the three types of numbers as “official numbering systems” and that the latter two forms should be referred to using alternative terminology, e.g., “American ID” for the “USA” number, in order to prevent confusion. The commenter expressed the concern that only the “840” number will be recognized in the NAIS.

We are not making any changes to the final rule in response to this comment. Because a uniform animal identification numbering system is needed to make the NAIS successful, we do intend that, in the future, only the “840” AIN will be recognized for official use, to the extent practical. The interim rule recognized the “USA” and manufacturer's code numbers in order to avoid placing an excessive burden on producers who were already using those numbering systems for identifying their animals. We view these numbering systems as transitional, however, and anticipate phasing them out as we progress toward full implementation of the NAIS. Additional information about this phasing-out process and timelines for the transition to APHIS' recognition of only the “840” AIN for official use will be provided in future rulemaking or other documents.

Another commenter recommended that we adopt a “universal animal identification number (UAIN)” in place of our AIN. While the UAIN could have the same format as the AIN, the former would be a permanent and unique database number for a single animal and would be linked with all physical device identifiers associated with the animal, including radio frequency identification devices (RFIDs), visual tags, retinal scans, DNA, brands, and unlimited alternate identifiers. The commenter stated that the UAIN could be used at the producer's option as the RFID number, or another ISO-compliant number could be used as an alternative. According to the commenter, the UAIN alternative would make it possible for both currently accepted and new identification technologies to be easily adopted without having to reengineer the official database over time. The UAIN would also allow easy retagging or reidentification, as retagging would link a new physical identifier to the original UAIN. There would be only one UAIN linked with one animal.

We are not making any changes in response to this comment. In the NAIS, the AIN will provide the same capabilities as would the commenter's recommended UAIN. The initial AIN assigned to an animal will be its lifetime number. Additionally, there is merit in having the animal's AIN attached to the animal for visual collection and subsequent recording for routine animal health tests, as well as health certificates. When a tag is lost and it is necessary to assign a new AIN to an animal, the pertinent NAIS databases will cross-reference the replacement AIN with the animal's original AIN. It is acknowledged that in some cases, the animal's original AIN may not be known, and thus cross-referencing of the two AINs will not be possible.

Another commenter suggested that, as soon as possible, a reasonable sunset date for identification numbers other than the “840” AIN should be established and communicated to industry. The commenter stated that the goal of the AIN implementation period should be to minimize labor for producers whose livestock are already identified and to increase the number of animals that can be easily recorded in the system, while at the same time transitioning all livestock to be identified using one uniform, standardized, and technology-neutral numbering system for the NAIS.

While we are not making any changes to the final rule as the result of this comment, which is beyond the scope of the present rulemaking, we do agree with the commenter. As noted above, we view the “USA” and manufacturer's code AINs as transitional and intend to phase them out as we progress toward full implementation of the NAIS, leaving the “840” AIN as the only one recognized for official use, to the extent practical. A date will be set for the sunset of the “USA” and manufacturer's code numbers, and advance notice will be provided to ensure a smooth transition to the “840” number for official use in disease control and eradication programs.

A commenter suggested that the definition of group/lot identification number (GIN) should be amended in the final rule to state that each animal reported in a group movement be required to have an individual animal group identification tag and that the number of head being moved in each group should be reported to the official database. In the absence of these requirements, according to the commenter, one has no way to prove that the animals were part of the group being moved once they are intentionally or accidentally commingled at a premises.

We are not making any changes to the final rule in response to this comment. Requiring an identification tag for each individual animal in a group would defeat the purpose and utility of group/lot identification. The intent behind the GIN is that the group of animals is referenced by a unique number so that each individual animal does not need to be tagged.

We did determine, however, that we needed to change the format of the GIN slightly. The November 2004 interim rule defined the GIN as consisting of a seven-character PIN and a six-digit representation of the date on which the group or lot of animals was assembled. That format made no provision for situations where more than one group of animals may be moved from a premises on the same day. Several of the species working groups that are working with APHIS on the NAIS—the sheep industry in particular—believed that the format needed to be revised in order to allow for the assignment of multiple GINs to multiple groups of animals moving from a premises on a single day. Therefore, the GIN has been revised by adding two digits. These two additional digits will provide for the identification of up to 99 groups/lots of animals moving from a premises on the same day. In this final rule, we are amending the definition of the GIN to reflect this change in format.

Other commenters discussed issues pertaining to the PIN. Concerns expressed by these commenters included the need for a nationally unique PIN, potential ambiguity about who will assign PINs, and the PIN format.

The same commenter who stated that we needed to specify that the AIN would be a “nationally unique” number offered a similar comment about the PIN. Noting that the definition contained in the November 2004 interim rule states that the PIN is a “unique number,” the commenter argued that the final rule should state that the PIN is a “nationally unique number.”

We agree with this comment as well. As with the AIN, it is important to avoid duplication with the PIN. We are amending the definition of premises identification number (PIN) in this final rule to indicate that it is a nationally unique number.

We are also making some additional modifications to the definition of premises identification number (PIN) in this final rule for the sake of comprehensiveness, clarity, and flexibility. While the definition in the interim rule refers to PINs being assigned by State or Federal animal health authorities, the definition in this final rule provides for Tribal authorities to do so as well. Secondly, whereas the PIN is currently defined, in part, as a nationally unique number representing a geographically distinct location from other livestock production units, the definition in this final rule refers to a geographically distinct location from other premises. This change, complemented by a new definition of premises as a location where livestock or poultry are held or kept that we are adding to § 71.1, makes the definition of the PIN more inclusive than the one in the interim rule. Finally, the definition of the PIN in the interim rule also stated, among other things, that the number is associated with an address or legal land description. In this final rule, the definition indicates that the PIN is associated with an address, geospatial coordinates, and/or other location descriptors which provide a verifiably unique location. The new definition provides greater flexibility by allowing for additional means of determining specific locations that will be associated with PINs.

The same commenter also expressed concern about the potential for confusion regarding who assigns PINs to premises. The commenter noted that the interim rule indicated that the PIN can be assigned by a State or Federal animal health official and that the assignment of the number is based on the judgment of either the State or Federal animal health official that the premises is a geographically distinct location from other livestock production units. According to the commenter, this provision appears to open up possibilities for jurisdictional conflict and could result in producers receiving conflicting information. The commenter argued that the PINs should be assigned to premises by the authorized animal health official, who, in most cases, would be the designated State animal health official.

We are not making any changes to the final rule as a result of this comment. While it is a State or Tribe's responsibility to maintain the system to register premises within its geographic area and to be the direct contact for producers registering their premises, the NAIS, as a State-Tribal-Federal cooperative program, necessitates cooperative efforts for the interpretation of premises definitions to ensure consistent interpretation nationwide. The definition of premises identification number (PIN) contained in the interim rule reflected the cooperative nature of this enterprise, a point we are further reinforcing by adding the reference to Tribal authorities to the definition in the final rule.

Another commenter expressed some concerns about the format of the PIN, as defined in our November 2004 interim rule. The interim rule recognized a new PIN format for official use: A seven-character alphanumeric code, with the right-most character being a check digit. This commenter suggested that adding an alphanumeric checksum character to a six-character code could increase the number of transcription errors because a seventh character could exceed the normal range of short-term memory. The commenter's preferred solution would have the numbers of digits in PINs vary according to the primary function of a particular premises. Commercial poultry producers' premises would have five-digit PINs assigned to them. There would be six-digit PINs assigned to swine producers, seven-digit PINs to beef producers, eight-digit PINs to dairy producers, and nine-digit PINs to other producers. Such a system, according to the commenter, would reserve the shorter PINs for those sections of agriculture that will be the primary users of the numbering system, support the implementation of species-specific identification tags, make tattoos easier to read, decrease transcription errors, and allow for the recording of numbers into electronic ID systems.

We do not support this recommendation. The PIN is intended to identify a geographical location where livestock or poultry are managed or held rather than the species present at the premises. The agricultural activity at a given premises may change over time due to changes in ownership or other factors. The PIN, as defined in the rulemaking, allows for that possibility. Under the commenter's proposal, on the other hand, a change in the primary species produced at a premises would necessarily result in that premises having to be assigned a new PIN.

One commenter asserted that while the definition of official eartag contained in the interim rule indicated that the official eartag must “provide unique identification for individual animals,” it did not specify how this was to be done.

We do not agree with this comment. The definition of official eartag in the interim rule specified numbering systems that may be used on the eartags for the identification of individual animals in the NAIS.

The same commenter also argued that while the official eartag requirements seem appropriate for the future, they may not be entirely so at present. The definition of official eartag provided in the interim rule stated that an official eartag must bear the U.S. shield. As the commenter pointed out, many animals currently carry tags that meet all the interim rule's requirements for an official eartag with the exception of having the U.S. shield printed on the tag. In addition, many such tags have been manufactured and are ready to be used in cooperative agreements to begin the implementation of the NAIS. By requiring animals carrying these tags, with verifiably unique numbers, to be retagged in order for their eartags to be recognized as official, APHIS would place a significant burden on producers and delay implementation of the program, according to the commenter. The implementation of the NAIS would be facilitated and industry would benefit if the requirement for printing the U.S. shield on official eartags were set at some future specific date and if tags currently in use that meet all other criteria continue to be recognized as official eartags until that date.

We recognize that we would be placing a significant burden on producers if we required them to retag their animals in order that the eartags used meet the U.S. shield requirement. Therefore, we are going to allow producers employing the transitional “USA” and manufacturer's code numbers, as well as PIN-based numbers, to continue to use eartags that meet all the other specifications but do not have the U.S. shield imprinted upon them. In this final rule, we have amended the definition of official eartag to require the U.S. shield only for eartags using “840” AINs.

Another commenter stressed the importance of having official identification devices be “tamper evident” and having provisions in the regulations stating that the removal of such devices prior to slaughter would be subject to penalties. The commenter also stated that minimum retention rates for such devices should be established in partnership with the livestock industry, and manufacturer compliance with those rates should be required for participation in the NAIS.

We are not making any changes to the final rule in response to these comments. The definition of official eartag in the November 2004 interim rule states that an official eartag “must be tamper resistant and have a high rate of retention in the animal.” The commenter did not indicate how “tamper evident” differs from “tamper resistant.” The species working groups recommend specific technologies and performance requirements, including minimum retention rates, for those technologies. Based on those recommendations, APHIS has developed an evaluation process for device manufacturers seeking to have their devices approved for use in the NAIS. This process includes the evaluation of minimum retention rates for the identification devices used in the NAIS. The interim rule did add prohibitions on removing identification devices prior to slaughter to parts 71 and 93, though penalties were not specified. Generally, our regulations do not include descriptions of the penalties provided for by the Animal Health Protection Act and other statutes.

Another commenter cautioned against relying completely on official tags as the sole or primary physical identifier of animals in the NAIS. Physical identifiers, the commenter noted, are not necessarily permanent. Tags of all types are lost, damaged, malfunction, or become unreadable. The commenter recommended that, in place of existing tag requirements, we adopt for use in the NAIS a Device Animal Identification Number—Radio Frequency Identification (DAIN-RF) tag. The DAIN-RF tag would be required to be attached to each animal or subdermally implanted in each animal, as determined by each species group, and would have to meet ISO standards so that each identification number would be unique. The DAIN-RF tag would be unofficial and would not bear the U.S. shield. The tag would be required to display the encoded ISO number on the outside. The use of these tags in the NAIS would not require manufacturers to change their normal manufacturing processes or to establish a unique color for official identification. The commenter also argued that DAIN-RF tags used for beef production should not be limited to a one-time use, since reusable tags have been employed to identify animals in the beef industry for over 10 years. The use of reusable tags reduces the costs of animal identification.

We are not making any changes to the final rule in response to this comment. The commenter is certainly correct in saying that tags get lost; however, while some tag loss is expected, the requirement contained in the interim rule's definition of official eartag that such tags have high retention rates will provide adequate protection. Additional methods to validate identification when tags are lost will be considered as technology becomes practical and affordable, but to require identification that is absolutely permanent for all animals is not practical today. One-time use of official identification devices has been an important factor in maintaining the integrity of animal identification for many years, and we feel strongly this practice should continue. Additionally, the species working groups support the use of official tags.

The same commenter also recommended that we add a definition of AIN manager to the final rule. The commenter stated that AIN manager should be defined as a representative of a company that receives allocations from the USDA of UAINs (as defined by this commenter and referred to earlier in this document) to be used as permanent database identification for the animal. AIN managers would be data service providers, data trustees, or others who participate in linking an ISO RFID device on the animal and subsequent alternate identification devices to the UAIN in a database.

We are not making any changes to the final rule in response to this comment. The comment goes beyond the scope of this rulemaking, the primary intent of which is to allow for the use of new numbering systems for the identification of animals and premises for official purposes in disease control and eradication programs. In the NAIS User Guide, a document that was made available to the public in November 2006 and that represents the most up-to-date information about the program, we defined an AIN device manager, in part, as an “entity that represents an AIN device manufacturer for the distribution of AIN devices.” Additional description of the roles and responsibilities of the AIN device manager is provided in that definition and elsewhere in the NAIS User Guide. We will follow the recommendations of the NAIS Draft Program Standards, which were updated and released in February 2007 as the “Program Standards and Technical Reference” document, for the allocation of AINs to AIN device manufacturers and the distribution of AIN devices through AIN device managers and resellers.

The same commenter also recommended that we adopt a new definition of officially identified. Based on this commenter's recommendation, which was discussed earlier in this document, that we adopt the UAIN as the official means of identification for individual animals in the NAIS, the suggested new definition of officially identified would read as follows: “An animal that is uniquely and officially identified with a tamper-proof database identifier allocated to data service providers or data trustees by USDA and known as a UAIN. An officially identified animal is one that has been reported to the official database for purposes of NAIS tracing. The UAIN will be linked to the physical identifiers associated with an animal.”

We are not making any changes to the final rule as a result of this comment. As noted earlier, the AIN will serve as an animal's lifetime identification number and will provide the same capabilities as the UAIN that the commenter recommends. Having the AIN printed on an animal's official tag will aid in the administration of animal health programs.

The same commenter also suggested that we needed to add certain definitions to the regulations in order to avoid ambiguity. While the regulations provide specific definitions of commingling for swine and sheep, no such definition is provided for cattle. The commenter recommended that the regulations should state that, for cattle, commingling means that an animal was not prohibited from coming in contact with another animal. The commenter also stated that the definition for a unit of animals varies among species, resulting in potential ambiguity in the establishment of group identification, and that production systems can be interpreted to have variable meanings within and across species.

We will take these suggestions into consideration, though they appear to go beyond the scope of the present rulemaking, which is primarily concerned with allowing for the use of alternative numbering systems for identifying animals and premises. The GIN standards contained in this rule pertain to the numbering system. In the NAIS User Guide, published on the NAIS Web site on November 22, 2006, we defined the term commingle as referring “to events where animals are mixed or brought together with animals from other farms, ranches, or other production systems.” This definition was applicable to all species.

A number of commenters stated that the voluntary Scrapie Flock Certification Program, which has worked effectively for small producers, should be continued in its current form rather than being replaced by a new identification system. (Numbering systems that are accepted for official use in this program are described in 9 CFR 79.2, which also contains a list of approved means of identification.) One of these commenters stressed the importance of producers with small goat herds being allowed to continue to use microchip implants as a means of animal identification. Implants, according to this commenter, are more reliable than eartags or tattoos, which are less likely to be permanent and are more vulnerable to tampering.

We agree with these comments, but note that they do not necessitate any changes to the final rule. Producers with small goat herds will still be able to use microchip implants, since the definition of official identification device or method contained in the interim rule is sufficiently flexible to allow for the use of such devices.

One commenter suggested that when the NAIS is fully implemented, health certificates for cattle should be eliminated. The commenter stated that the health certificates would be a duplication of the tracking function of the NAIS and would no longer be necessary. This comment does not appear to be relevant to the current rulemaking.

Finally, in addition to the changes discussed above, we are adding a definition of animal identification number (AIN) to § 79.1 and revising the existing definition of official eartag in that section so that it matches the one described earlier in this document. These changes will ensure that the definitions in part 79 are consistent with the definitions found elsewhere in our regulations pertaining to the interstate movement of animals.

Therefore, for the reasons given in the interim rule and in this document, we are adopting the interim rule as a final rule, with the changes discussed in this document.

This final rule also affirms the information contained in the interim rule concerning Executive Order 12866 and the Regulatory Flexibility Act, Executive Orders 12372 and 12988, and the Paperwork Reduction Act.

List of Subjects

9 CFR Part 71

Animal diseases, Livestock, Poultry and poultry products, Quarantine, Reporting and recordkeeping requirements, Transportation.

9 CFR Part 77

Animal diseases, Bison, Cattle, Reporting and recordkeeping requirements, Transportation, Tuberculosis.

9 CFR Part 78

Animal diseases, Bison, Cattle, Hogs, Quarantine, Reporting and recordkeeping requirements, Transportation.

9 CFR Part 79

Animal diseases, Quarantine, Sheep, Transportation.

9 CFR Part 80

Animal diseases, Livestock, Transportation.

Accordingly, we are amending 9 CFR parts 71, 77, 78, 79, and 80 as follows:

PART 71—GENERAL PROVISIONS

1. The authority citation for part 71 continues to read as follows:

Authority: 7 U.S.C. 8301-8317; 7 CFR 2.22, 2.80, and 371.4.

2. Section 71.1 is amended by revising the definitions of animal identification number (AIN), group/lot identification number (GIN), official eartag, and premises identification number (PIN) and by adding a definition of premises to read as follows:

§ 71.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording.

* * * * *

Group/lot identification number (GIN). The identification number used to uniquely identify a “unit of animals” of the same species that is managed together as one group throughout the preharvest production chain. The GIN consists of a seven-character premises identification number (PIN), as defined in this section, a six-digit representation of the date on which the group or lot of animals was assembled (MM/DD/YY), and two additional digits, ranging from 01 to 99, for the numbering of different groups or lots of animals assembled on the same premises on the same day. When more than one group of animals is assembled, the groups will be designated consecutively as 01, 02, 03, etc.

* * * * *

Official eartag. An identification tag providing unique identification for individual animals. An official eartag which contains or displays an AIN with an 840 prefix must bear the U.S. shield. The design, size, shape, color, and other characteristics of the official eartag will depend on the needs of the users, subject to the approval of the Administrator. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises. A location where livestock or poultry are housed or kept.

Premises identification number (PIN). A nationally unique number assigned by a State, Tribal, and/or Federal animal health authority to a premises that is, in the judgment of the State, Tribal, and/or Federal animal health authority, a geographically distinct location from other premises. The premises identification number is associated with an address, geospatial coordinates, and/or location descriptors which provide a verifiably unique location. The premises identification number may be used in conjunction with a producer's own livestock production numbering system to provide a unique identification number for an animal. It may also be used as a component of a group/lot identification number (GIN). The premises identification number may consist of:

(1) The State's two-letter postal abbreviation followed by the premises' assigned number; or

(2) A seven-character alphanumeric code, with the right-most character being a check digit. The check digit number is based upon the ISO 7064 Mod 36/37 check digit algorithm.

* * * * *

PART 77—TUBERCULOSIS

3. The authority citation for part 77 continues to read as follows:

Authority: 7 U.S.C. 8301-8317; 7 CFR 2.22, 2.80, and 371.4.

4. Section 77.2 is amended by revising the definitions of animal identification number (AIN), official eartag, and premises identification number (PIN) to read as follows:

§ 77.2 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording.

* * * * *

Official eartag. An identification tag providing unique identification for individual animals. An official eartag which contains or displays an AIN with an 840 prefix must bear the U.S. shield. The design, size, shape, color, and other characteristics of the official eartag will depend on the needs of the users, subject to the approval of the Administrator. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or other location descriptors which provide a verifiably unique location. The premises identification number may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

* * * * *

PART 78—BRUCELLOSIS

5. The authority citation for part 78 continues to read as follows:

Authority: 7 U.S.C. 8301-8317; 7 CFR 2.22, 2.80, and 371.4.

6. Section 78.1 is amended by revising the definitions of animal identification number (AIN) and official eartag to read as follows:

§ 78.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording.

* * * * *

Official eartag. An identification tag providing unique identification for individual animals. An official eartag which contains or displays an AIN with an 840 prefix must bear the U.S. shield. The design, size, shape, color, and other characteristics of the official eartag will depend on the needs of the users, subject to the approval of the Administrator. The official eartag must be tamper-resistant and have a high retention rate in the animal. Official eartags must adhere to one of the following numbering systems:

(a) National Uniform Eartagging System.

(b) Animal identification number (AIN).

(c) Premises-based number system. The premises-based number system combines an official premises identification number (PIN), as defined in § 71.1 of this chapter, with a producer's livestock production numbering system to provide a unique identification number. The PIN and the production number must both appear on the official tag.

(d) Any other numbering system approved by the Administrator for the identification of animals in commerce.

* * * * *

PART 79—SCRAPIE IN SHEEP AND GOATS

7. The authority citation for part 79 continues to read as follows:

Authority: 7 U.S.C. 8301-8317; 7 CFR 2.22, 2.80, and 371.4.

8. Section 79.1 is amended as follows:

a. In the definition of premises identification, by removing the words “number, as” and adding the words “number (PIN), as” in their place.

b. By revising the definitions of official eartag and premises identification number (PIN) and adding a definition of animal identification number (AIN) to read as set forth below.

§ 79.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording.

* * * * *

Official eartag. An identification tag providing unique identification for individual animals. An official eartag which contains or displays an AIN with an 840 prefix must bear the U.S. shield. The design, size, shape, color, and other characteristics of the official eartag will depend on the needs of the users, subject to the approval of the Administrator. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or other location descriptors which provide a verifiably unique location. The premises identification number may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

* * * * *

PART 80—JOHNE'S DISEASE IN DOMESTIC ANIMALS

9. The authority citation for part 80 continues to read as follows:

Authority: 7 U.S.C. 8301-8317; 7 CFR 2.22, 2.80, and 371.4.

10. Section 80.1 is amended by revising the definitions of animal identification number (AIN), official eartag, and premises identification number (PIN) to read as follows:

§ 80.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording.

* * * * *

Official eartag. An identification tag providing unique identification for individual animals. An official eartag which contains or displays an AIN with an 840 prefix must bear the U.S. shield. The design, size, shape, color, and other characteristics of the official eartag will depend on the needs of the users, subject to the approval of the Administrator. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or other location descriptors which provide a verifiably unique location. The premises identification number may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

* * * * *

Done in Washington, DC, this 12th day of July 2007.
Kevin Shea,
Acting Administrator, Animal and Plant Health Inspection Service.

[FR Doc. E7-13932 Filed 7-17-07; 8:45 am]

BILLING CODE 3410-34-P